DEPARTMENT OF HOMELAND SECURITY

Coast Guard

[USCG-2011-1169]

Sector Upper Mississippi River Area Maritime Security Committee; Vacancies

AGENCY: Coast Guard, DHS.

ACTION: Solicitation for membership.

SUMMARY: This notice requests individuals interested in serving on the Sector Upper Mississippi River Area Maritime Security Committee (AMSC) to submit their application for membership, to the Captain of the Port, Sector Upper Mississippi River.

DATES: Requests for membership should reach the Sector Upper Mississippi Captain of the Port on or before March 8, 2012.

ADDRESSES: Requests for membership should be submitted to the Captain of the Port Sector Upper Mississippi River, AMSC Executive Administrator, 1222 Spruce Street, Room 7.103, St. Louis, MO 63103-2846 or by email to todd.a.epperson@uscg.mil or jared.p.angelle@uscg.mil.

FOR FURTHER INFORMATION CONTACT: For questions about submitting an application or about the AMSC in general, contact Port Security Specialist Mr. Todd Epperson at (314) 269-2595 or Mr. Jared Angelle at (314) 269-2593.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C.; 33 CFR 1.05-1, 6.01; Department of Homeland Security Delegation No. 0170.1). The MTSA includes a provision exempting these AMSCs from the Federal Advisory Committee Act (FACA), Public Law 92-463, 86 Stat. 770 (5 U.S.C. App.2).

Sector Upper Mississippi River AMSC Purpose

The AMSCs shall assist the Captain of the Port in the review, update, and exercising of the Area Maritime Security (AMS) Plan for their area of responsibility. Such matters may include, but are not limited to: identifying critical port infrastructure and operations; identifying risks (threats, vulnerabilities, and consequences); determining mitigation strategies and implementation methods; developing strategies to facilitate the recovery of the Maritime Transportation Security (MTS) after a Transportation Security Incident; developing and describing the process to continually evaluate overall port security by considering consequences and vulnerabilities, how they may change over time, and what additional mitigation strategies can be applied; and providing advice to, and assisting the Captain of the Port in developing and maintaining the AMS Plan.

AMSC Composition

The composition of an AMSC, to include the Sector Upper Mississippi River AMSC, is controlled by 33 CFR 103.305. Accordingly, members may be selected from the Federal, Territorial, or Tribal government; the State government and political subdivisions of the State; local public safety, crisis management, and emergency response agencies; law enforcement and security organizations; maritime industry, including labor; other port stakeholders having a special competence in maritime security; and port stakeholders affected by security practices and policies. Also, members of the AMSC should have at least 5 years of experience related to maritime or port security operations.

Sector Upper Mississippi River AMSC Vacancies

The Sector Upper Mississippi River AMSC is comprised of individuals who represent federal, state, local, and industry stakeholders from port regions in the Upper Midwest (St. Paul/Minneapolis), St. Louis, and Kansas City. We are seeking to fill up to three positions with this solicitation.

Request for Applications

Those seeking membership are not required to submit formal applications to the local Captain of the Port, however, because we do have an obligation to ensure that a specific number of members have the prerequisite maritime security experience, we encourage the submission of résumés highlighting experience in the maritime and security industries. Applicants will be required to pass an appropriate security background check prior to appointment to the committee. Members' term of office will be for 5 years, however, a member is eligible to serve an additional term of office. Members will not receive any salary or other compensation for their service on the AMSC.

In support of the policy of the Coast Guard on gender and ethnic diversity, we encourage qualified men and women and members of all racial and ethnic groups to apply.

Dated: January 27, 2012.
S.C. Teschendorf,
Commander, U.S. Coast Guard, Alternate Federal Maritime Security Coordinator, Sector Upper Mississippi River.

[FR Doc. 2012-2759 Filed 2-6-12; 8:45 am]

BILLING CODE 9110-04-P